DEPARTMENT OF JUSTICE

Notice of Lodging of Proposed Consent Decree under the Comprehensive Environmental Response, Compensation and Liability Act

Notice is hereby given that on April 25, 2006, a proposed Consent Decree in United States v. General Electric Company, Civil Action No. 03CV4668 (HAA), was lodged with the United States District Court for the District of New Jersey. In that action, the United States seeks to recover from General Electric Company (“General Electric”) response costs incurred in connection with the Grand Street Mercury Superfund Site, located in Hoboken, New Jersey (“the Site”), pursuant to section 107 of the Comprehensive Environmental Response, Compensation and Liability Act (“CERCLA”), 42 U.S.C. 9607. A number of other lawsuits have been filed and consolidated in connection with the release of mercury at the Site.

As part of the settlement, General Electric has placed $3 million into an interest-bearing court registry account. The consent decree provides that the United States will receive $2,805,000 plus interest accrued on that amount, and that the State of New Jersey will receive $195,000 plus interest accrued on that amount. General Electric further agrees to file motions to withdraw its opposition to a consent decree that the United States and the State of New Jersey lodged in 2003 with other parties in Civil Action No. 96-3775 (HAA) and consolidated cases, and its opposition to aspects of other private settlements. General Electric further agrees to give up its claims for costs that it incurred in performing remediation at the Site and to withdraw its Petition to EPA under CERCLA section 106(b)(2), 42 U.S.C. 9606(b)(2), for reimbursement of such costs. In exchange, the Plaintiffs covenant not to sue General Electric for their past costs at the Site and provide contribution protection for all response costs and response actions at the Site.

The Department of Justice will receive comments relating to this Consent Decree for a period of thirty (30) days from the date of this publication. Comments should be addressed to the Assistant Attorney General, Environment and Natural Resources Division, P.O. Box 7611, U.S. Department of Justice, Washington, DC 20044-7611, Attention: Nancy Flickinger, and should refer to United States v. General Electric Co., DOJ #90-11-3-1769.

The Consent Decree may be examined at the Office of the United States Attorney for the District of New Jersey, 970 Broad Street, 7th Floor, Newark, NJ 07102, and at U.S. EPA Region II's Office, 290 Broadway, New York, NY 10007-1866. During the public comment period, the consent decree may also be examined on the following Department of Justice Web site, http://www.usdoj.gov/enrd/open.html. A copy of the consent decree may also be obtained by mail from the Consent Decree Library, P.O. Box 7611, U.S. Department of Justice, Washington, DC 20044-7611 or by faxing or e-mail a request to Tonia Fleetwood (tonia.fleetwood@usdoj.gov), fax no. (202) 514-0097, phone confirmation number (202) 514-1547. In requesting a copy from the Consent Decree Library, please enclose a check in the amount of $11.00 (25 cents per page reproduction cost) for a full copy of the consent decree, payable to the U.S. Treasury.

Ronald Gluck,
Assistant Chief, Environmental Enforcement Section, Environmental and Natural Resources Division.

[FR Doc. 06-4372 Filed 5-10-06; 8:45 am]

BILLING CODE 4410-15-M